FEDERAL MINE SAFETY AND HEALTH REVIEW COMMISSION

Sunshine Act Notice: Cancellation of Meeting Notice

January 28, 2015.

The following Commission meeting has been cancelled. No earlier announcement of the cancellation was possible.

TIME AND DATE: 2:00 p.m., Thursday, January 29, 2015.

PLACE: The Richard V. Backley Hearing Room, Room 511N, 1331 Pennsylvania Avenue NW., Washington, DC 20004 (enter from F Street entrance).

STATUS: Closed.

MATTERS TO BE CONSIDERED: It was determined by a unanimous vote of the Commissioners that the Commission consider and act upon the following in closed session: Brody Mining, LLC v. Secretary of Labor, Docket Nos. WEVA 2014-82-R, et al. (Issues include whether to grant the Secretary of Labor's Emergency Motion for Stay of ALJ's Order Dismissing Pattern-of-Violations Notice.)

Any person attending this meeting who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD Relay/1-800-877-8339 for toll free.

Sarah L. Stewart,
Deputy General Counsel.

[FR Doc. 2015-01921 Filed 1-28-15; 4:15 pm]

BILLING CODE 6735-01-P